DEPARTMENT OF TRANSPORTATION

Federal Highway Administration

23 CFR Part 515

[FHWA Docket No. FHWA-2013-0052]

RIN 2125-AF57

Asset Management Plan

AGENCY: Federal Highway Administration (FHWA), DOT.

ACTION: Notice of proposed rulemaking; extension of comment period.

SUMMARY: The FHWA is extending the comment period for a notice of proposed rulemaking (NPRM) and request for comments, which was published on February 20, 2015, at 80 FR 9231. The original comment period is set to close on April 21, 2015. The extension is based on concern expressed by the American Association of State Highway and Transportation Officials (AASHTO) that the April 21 closing date does not provide sufficient time to review and provide comprehensive comments. The FHWA recognizes that others interested in commenting may have similar concerns and agrees that the comment period should be extended. Therefore, the closing date for comments is changed to May 29, 2015, which will provide AASHTO and others interested in commenting additional time to discuss, evaluate, and submit responses to the docket.

DATES: The comment period for the proposed rule published on February 20, 2015, at 80 FR 9231, is extended. Comments must be received on or before May 29, 2015.

ADDRESSES: Mail or hand deliver comments to the U.S. Department of Transportation, Dockets Management Facility, 1200 New Jersey Avenue SE., Washington, DC 20590, or submit electronically at http://www.regulations.gov. All comments should include the docket number that appears in the heading of this document. All comments received will be available for examination and copying at the above address from 8:00 a.m. to 4:30 p.m., e.t., Monday through Friday, except Federal holidays. Those desiring notification of receipt of comments must include a self-addressed, stamped postcard or may print the acknowledgment page that appears after submitting comments electronically. Anyone is able to search the electronic form of all comments received into any of our dockets by the name of the individual submitting the comment (or signing the comment, if submitted on behalf of an association, business, labor union, etc.). You may review DOT's complete Privacy Act Statement in the Federal Register published on April 11, 2000 (Volume 65, Number 70, Pages 19477-78) or you may visit http://www.regulations.gov.

FOR FURTHER INFORMATION CONTACT: Ms. Nastaran Saadatmand, Office of Asset Management, 202-366-1336, nastaran.saadatmand@dot.gov or Ms. Janet Myers, Office of the Chief Counsel, 202-366-2019, janet.myers@dot.gov, Federal Highway Administration, 1200 New Jersey Avenue SE., Washington, DC 20590. Office hours are from 8:00 a.m. to 4:30 p.m., e.t., Monday through Friday, except Federal holidays.

SUPPLEMENTARY INFORMATION:

Electronic Access and Filing

You may submit or access all comments received by DOT online through: http://www.regulations.gov. Electronic submission and retrieval help and guidelines are available on the Web site. It is available 24 hours each day, 365 days each year. Please follow the instructions. An electronic copy of this document may also be downloaded from the Federal Register's home page at: http://www.federalregister.gov.

Background

Section 119 of title 23, U.S.C., requires the Secretary to establish a process that States DOTs would use to develop a State asset management plan. On February 20, 2015, FHWA published in the Federal Register an NPRM proposing to establish a process for the development of a State asset management plan to improve or preserve the condition of the assets and the performance of the National Highway System as they relate to physical assets. State asset management plans must include strategies leading to a program of projects that would: (1) Make progress toward achievement of the State targets for asset condition and performance of the NHS in accordance with 23 U.S.C. 150(d), and (2) support progress toward the achievement of the national goals identified in 23 U.S.C. 150(b). 23 U.S.C. 119(e)(2). The development and implementation of an asset management plan is an important part of the overall Moving Ahead for Progress in the 21st Century framework for enhancing the management and performance of transportation highway infrastructure funded through the Federal-aid highway program.

The original comment period for the NPRM closes on April 21, 2015. The AASHTO has expressed concern that this closing date does not provide sufficient time to review and provide comprehensive comments on the proposal. The FHWA recognizes that others interested in commenting may have similar concerns and agrees that the comment period should be extended. To allow time for this organization and others to submit comprehensive comments, the closing date is changed from April 21, 2015, to May 29, 2015.

Authority: 23 U.S.C. 104(b)(1), 119.

Issued on: March 25, 2015.
Gregory G. Nadeau,
Deputy Administrator, Federal Highway Administration.

[FR Doc. 2015-07443 Filed 3-31-15; 8:45 am]

BILLING CODE CODE 4910-22-P